DEPARTMENT OF ENERGY

Federal Energy Regulatory Commission

[Project No. 15318-000]

Cabin Run Pumped Storage, LLC; Notice of Preliminary Permit Application Accepted for Filing and Soliciting Comments, Motions To Intervene, and Competing Applications

On July 12, 2023, Cabin Run Pumped Storage, LLC, filed an application for a preliminary permit, pursuant to section 4(f) of the Federal Power Act (FPA), proposing to study the feasibility of the Cabin Run Pumped Storage Project to be located near the Stony River and unincorporated community of Bismarck in Tucker and Grant Counties, West Virginia. The sole purpose of a preliminary permit, if issued, is to grant the permit holder priority to file a license application during the permit term. A preliminary permit does not authorize the permit holder to perform any land-disturbing activities or otherwise enter upon lands or waters owned by others without the owners' express permission.

The proposed project would consist of the following: (1) a 8,700-foot-long, 80-foot-high rock-fill embankment dike creating an upper reservoir with a 60-acre surface area and a 4,800-acre-foot storage capacity at a normal maximum water surface elevation of 4,030 feet above mean sea level (msl); (2) a 7,200-foot-long, 80-foot-high rock-fill embankment dike enclosing a lower reservoir with a 60-acre surface area and a 4,800-acre-foot storage capacity at a normal maximum water surface elevation of 3,530 feet msl; (3) a 400-foot-long, 24-foot-diameter vertical power tunnel/shaft connecting a 4,650-foot-long, 24-foot-diameter horizontal power tunnel to the powerhouse; (4) a 550-foot-long, 120-foot-wide, 100-foot-high powerhouse housing four 57.5-megawatt (MW) reversible Francis pumping-generating units with a total installed capacity of 230 MW; (5) a 4.5-mile-long, 230-kilovolt transmission line from a proposed substation near the powerhouse to an interconnection point; (6) a substation including two 120 megavolt amperes generator step-up units; (7) a 20-foot-long, 20-foot-wide, 15-foot-high concrete pump station on the south bank of the Stony River (upper end of Mount Storm Lake), capable of conveying water at 50 cubic feet per second through a 3,400-foot-long, 2-foot-diamenter steel conduit to the lower reservoir for fill or refill purposes; and (8) appurtenant facilities. The proposed project would have an annual generation of 671,000 megawatt-hours.

Applicant Contact: Nate Sandvig, Rye Development, LLC, 830 NE Holladay St., Portland, OR 97232; email: nathan@ryedevelopment.com; phone: (503) 309-2496.

FERC Contact: Woohee Choi; email: woohee.choi@ferc.gov; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15318-000.

More information about this project, including a copy of the application, can be viewed or printed on the “eLibrary” link of the Commission's website at http://www.ferc.gov/docs-filing/elibrary.asp. Enter the docket number (P-15318) in the docket number field to access the document. For assistance, contact FERC Online Support.

Dated: November 2, 2023.
Debbie-Anne A. Reese,
Deputy Secretary.

[FR Doc. 2023-24734 Filed 11-8-23; 8:45 am]

BILLING CODE 6717-01-P